DEPARTMENT OF TRANSPORTATION

Pipeline and Hazardous Materials Safety Administration

49 CFR Part 192

[Docket ID PHMSA-2003-15852]

RIN 2137-AE17

Pipeline Safety: Applicability of Public Awareness Regulations to Certain Gas Distribution Operators

AGENCY: Pipeline and Hazardous Materials Safety Administration (PHMSA), Department of Transportation (DOT).

ACTION: Final rule.

SUMMARY: This final rule relaxes regulatory requirements governing public awareness programs conducted by operators of master meter systems and certain operators of petroleum gas systems. These operators typically manage property and incidentally provide gas service to customers located on the property. The change provides a less burdensome means for these operators to satisfy public awareness needs.

DATES: This final rule takes effect January 14, 2008.

FOR FURTHER INFORMATION CONTACT: For information about this rulemaking contact Barbara Betsock by phone at (202) 366-4361, or by e-mail at barbara.betsock@dot.gov. For information about public awareness programs, contact Blaine Keener by phone at (202) 366-0970 or e-mail at blaine.keener@dot.gov.

SUPPLEMENTARY INFORMATION:

Background

PHMSA reopened this rulemaking in response to a petition for reconsideration filed by the American Public Gas Association (APGA). The APGA proposed that we exempt operators of master meter systems from the agency's new public awareness regulations (70 FR 28833; May 19, 2005), which require all pipeline operators to develop written public awareness programs following American Petroleum Institute Recommended Practice 1162 (API RP 1162). The specific regulations in issue (codified at 49 CFR 192.616) require all pipeline operators to provide pipeline safety awareness materials to the affected public, emergency officials, local public officials, and excavators. The APGA petition asked that PHMSA amend these requirements on the ground that messages from operators of master meter systems to the public and emergency officials could differ from messages being sent by large gas distribution operators and cause confusion among these pipeline safety stakeholders. As an alternative, the APGA proposed that operators of master meter systems be required to pass along to their customers the awareness materials provided by the gas distribution operator serving the master meter.

PHMSA has decided to relax the public awareness requirements for operators of master meter systems, but we are not adopting the specific amendment proposed by the APGA. Customers on the master meter system may already receive pipeline safety information directly from pipeline operators near their residence. However, only the operator of the master meter system can provide the critical information needed by these customers to report a potential gas emergency on the master meter system.

During the review of the APGA petition, PHMSA determined that operators of petroleum gas distribution systems whose primary business is not transportation should be treated the same as operators of a master meter distribution system with respect to public awareness requirements. Both of these operator types typically operate gas distribution systems within a well-defined area as a secondary business. The potential confusion among stakeholders which the APGA predicts for messages sent by operators of master meter systems applies to the messages sent by operators of small petroleum gas distribution systems. In a written response to the APGA and through public workshops and an advisory bulletin (71 FR 34998; June 16, 2006), PHMSA indicated its intention to relieve operators of master meter and petroleum gas distribution systems of some of the requirements for public awareness programs. On September 29, 2006, PHMSA published a notice of proposed rulemaking (NPRM) to accomplish this (71 FR 57457; Sept. 29, 2006).

Comments on the NPRM and Advisory Committee Consideration

PHMSA received five sets of comments on the NPRM. The APGA supports the NPRM as responsive to its petition, and all commenters support relaxing the regulations for the operators of master meter and petroleum gas distribution systems.

The Manufactured Housing Institute urges PHMSA to grant complete relief from public awareness requirements to master meter operators. PHMSA is not considering doing so because of the safety benefit of public awareness. In addition, 49 U.S.C. 60116 requires all operators to have public awareness programs.

The APGA asks that PHMSA additionally require master meter operators to pass on to their customers the educational materials received from supplying gas companies. PHMSA is not requiring this because the customers of master meter operators will already receive materials from operators with pipelines near the customers.

The National Propane Gas Association and the Maine Oil Dealer Association ask for a clarification with respect to petroleum gas marketers. The associations ask PHMSA to allow marketers whose business involves transportation of gas by truck and pipeline to qualify for the relaxed requirements proposed in the NPRM if only a small portion of that transportation is by pipeline. The relaxed requirement criteria are taken from existing regulations at 49 CFR 192.614(e). Operators who currently “qualify” for the exemption in § 192.614(e) will also “qualify” for the relaxed public awareness requirements. It is unnecessary to add, as suggested by the commenters, the qualifier “by pipeline” to the term “transportation of gas” since that term is defined in § 192.3 to be limited to pipeline transportation.

The members of the Technical Pipeline Safety Standards Committee, voting by letter ballot, voted unanimously to support the NPRM as technically feasible, reasonable, cost-effective and practicable. The letter ballots have been placed in the docket for advisory committee materials (Docket ID PHMSA-RSPA-1998-4470).

Compliance Dates

The regulations currently require development and implementation of public awareness programs meeting API RP 1162. This final rule provides less onerous requirements for master meter and petroleum gas operators (for whom gas transportation is not a primary business activity) regardless of size. PHMSA does not anticipate that these operators will have difficulty complying with these relaxed requirements. However, because gas distribution is not their primary business, it may take more time for these operators to learn of their responsibilities for new gas pipeline safety regulations. Therefore, we are including a compliance date six months from issuance of this final rule.

Regulatory Analyses and Notices

Privacy Act Statement

Anyone may search the electronic form of all comments received for any of our dockets. You may review DOT's complete Privacy Act Statement in the Federal Register published on April 11, 2000 (65 FR 19477) or you may visit http://dms.dot.gov.

Executive Order 12866 and DOT Policies and Procedures

This final rule is not a significant regulatory action under section 3(f) of Executive Order 12866 (58 FR 51735) and, therefore, was not reviewed by the Office of Management and Budget. This final rule is not significant under the Regulatory Policies and Procedures of the Department of Transportation (44 FR 11034).

Regulatory Flexibility Act

Under the Regulatory Flexibility Act (5 U.S.C. 601 et seq.), PHMSA must consider whether rulemaking actions would have a significant economic impact on a substantial number of small entities. This final rule will affect about 20,000 operators of master meters and petroleum gas systems. Although we do not have quantitative data, we believe most of these operators are small entities. This final rule will relieve regulatory burden for most of these operators. Based on the above information, I hereby certify under section 605 of the Regulatory Flexibility Act that this regulation rule will not have a significant impact on a substantial number of small entities.

Executive Order 13175

PHMSA has analyzed this rulemaking according to Executive Order 13175, “Consultation and Coordination with Indian Tribal Governments.” Because this final rule will not significantly or uniquely affect the communities of the Indian tribal governments or impose substantial direct compliance costs, the funding and consultation requirements of Executive Order 13175 do not apply.

Paperwork Reduction Act

This final rule does not impose any new information collection requirements.

Unfunded Mandates Reform Act of 1995

This final rule does not impose unfunded mandates under the Unfunded Mandates Reform Act of 1995. It does not result in costs of $100 million or more to either State, local, or tribal governments, in the aggregate, or to the private sector, and is the least burdensome alternative that achieves the objective of the rulemaking.

National Environmental Policy Act

PHMSA has analyzed this final rule for purposes of the National Environmental Policy Act (42 U.S.C. 4321 et seq.) and determined this final rule is unlikely to affect the quality of the human environment significantly. An environmental assessment document is available for review in the docket.

Executive Order 13132

PHMSA has analyzed the rulemaking according to Executive Order 13132 (“Federalism”). This final rule does not have a substantial direct effect on the States, the relationship between the national government and the States, or the distribution of power and responsibilities among the various levels of government. This final rule does not impose substantial direct compliance costs on State and local governments. This final regulation would not preempt state law for intrastate pipelines. Therefore, the consultation and funding requirements of Executive Order 13132 do not apply.

Executive Order 13211

Transporting gas impacts the nation's available energy supply. However, this final rule is not a “significant energy action” under Executive Order 13211. It also is not a significant regulatory action under Executive Order 12866 and is not likely to have a significant adverse effect on the supply, distribution, or use of energy. Further, the Administrator of the Office of Information and Regulatory Affairs has not identified this final rule as a significant energy action.

List of Subjects in 49 CFR Part 192

Pipeline safety, Reporting and recordkeeping requirements.

For the reasons provided in the preamble, PHMSA amends 49 CFR part 192 as follows:

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, 60116, and 60118; and 49 CFR 1.53.

2. Amend § 192.616 as follows:

a. Revise paragraph (a);

b. Revise the second sentence of paragraph (h); and

c. Add paragraph (j).

The revisions and additions read as follows:

§ 192.616 Public awareness.

(a) Except for an operator of a master meter or petroleum gas system covered under paragraph (j) of this section, each pipeline operator must develop and implement a written continuing public education program that follows the guidance provided in the American Petroleum Institute's (API) Recommended Practice (RP) 1162 (incorporated by reference, see § 192.7).

* * * * *

(h) * * * The operator of a master meter or petroleum gas system covered under paragraph (j) of this section must complete development of its written procedure by June 13, 2008. * * *

* * * * *

(j) Unless the operator transports gas as a primary activity, the operator of a master meter or petroleum gas system is not required to develop a public awareness program as prescribed in paragraphs (a) through (g) of this section. Instead the operator must develop and implement a written procedure to provide its customers public awareness messages twice annually. If the master meter or petroleum gas system is located on property the operator does not control, the operator must provide similar messages twice annually to persons controlling the property. The public awareness message must include:

(1) A description of the purpose and reliability of the pipeline;

(2) An overview of the hazards of the pipeline and prevention measures used;

(3) Information about damage prevention;

(4) How to recognize and respond to a leak; and

(5) How to get additional information.

Issued in Washington, DC, on December 6, 2007.
Krista L. Edwards,
Acting Administrator.

[FR Doc. E7-24124 Filed 12-12-07; 8:45 am]

BILLING CODE 4910-60-P